DEPARTMENT OF THE INTERIOR

Fish and Wildlife Service

[FWS-R6-R-2012-N239; FF06R06000 134 FXRS1265066CCP0]

Lake Andes National Wildlife Refuge Complex, Lake Andes, SD; Draft Comprehensive Conservation Plan and Environmental Assessment

AGENCY: Fish and Wildlife Service, Interior.

ACTION: Notice of availability; announcement of meeting; request for comments.

SUMMARY: We, the U.S. Fish and Wildlife Service (Service), announce that our draft comprehensive conservation plan (CCP) and environmental assessment (EA) for the Lake Andes National Wildlife Refuge Complex (Complex), which includes Lake Andes NWR (National Wildlife Refuge), Karl E. Mundt NWR, and Lake Andes Wetland Management District, is available for public review and comment. The draft CCP/EA describes how the Service intends to manage these units for the next 15 years.

DATES: To ensure consideration, we must receive your written comments on the draft CCP/EA by November 28, 2012. Submit comments by one of the methods under ADDRESSES. We will hold a public meeting; see Public Meeting under SUPPLEMENTARY INFORMATION for the date, time, and location.

ADDRESSES: Send your comment or requests for more information by any of the following methods.

Email: bernardo_garza@fws.gov. Include “Lake Andes NWR Complex Draft CCP and EA” in the subject line of the message.

Fax: Attn: Bernardo Garza, 303-236-4792.

U.S. Mail: U.S. Fish and Wildlife Service, Division of Refuge Planning, P.O. Box 25486, Denver Federal Center, Denver, CO 80225.

In-Person Drop-off, Viewing, or Pickup: Call 303-236-4377 to make an appointment (necessary for view/pickup only) during regular business hours at 134 Union Boulevard, Suite 300, Lakewood, CO 80228.

Document Request: A copy of the CCP/EA may be obtained by writing to U.S. Fish and Wildlife Service, Division of Refuge Planning, 134 Union Boulevard, Suite 300, Lakewood, CO 80228; or by download from http://mountain-prairie.fws.gov/planning.

FOR FURTHER INFORMATION CONTACT: Bernardo Garza, 303-236-4377, (phone); 303-236-4792 (fax); or bernardo_garza@fws.gov (email); or David C. Lucas, 303-236-4366 (phone); 303-236-4792 (fax); or david_c_lucas@fws.gov.

SUPPLEMENTARY INFORMATION:

Introduction

With this notice, we continue the CCP process for the Lake Andes NWR Complex. We started this process through a notice in the Federal Register (72 FR 27328; May, 15, 2007).

The Lake Andes NWR Complex encompasses three distinct units: Lake Andes NWR, Lake Andes Wetland Management District (WMD), and Karl E. Mundt NWR. The Complex lies within the Plains and Prairie Potholes Region (Region) in South Dakota, which is an ecological treasure of biological importance for wildlife, particularly waterfowl and other migratory birds. This Region alone produces approximately 50 percent of the continent's waterfowl population. Hunting and wildlife observation are the two most prevalent public uses on the Complex, followed by fishing and wildlife photography.

Lake Andes NWR was authorized by Executive Order in 1936 and formally established in 1939 to preserve an important piece of shallow water and prairie habitats for waterfowl and other water birds. This 5,639-acre refuge includes Lake Andes, a 4,700-acre lake created by the last ice age. The lake's shallow waters and surrounding grasslands provide optimal feeding, resting, nesting, and brooding habitats for migratory waterfowl, shorebirds, and other waterbirds, and also songbirds. Water levels in the lake vary from 0 to 12 feet, depending entirely on climatic conditions and precipitation, and create a boom-and-bust fishery dependent on water quality and quantity.

The Federal Migratory Bird Conservation Fund finances the acquisition of waterfowl production areas (WPA) and conservation easements by providing the Department of Interior with monies to acquire migratory bird habitat. The 1958 amendment to the Migratory Bird Hunting and Conservation Stamp Act (16 U.S.C. 718) authorized the Small Wetlands Acquisition Program and provided for the acquisition of lands in addition to the previously authorized habitats. Receipts from the sale of Duck Stamps are used to acquire habitat under the provisions of the Migratory Bird Treaty Act (16 U.S.C. 715). The Lake Andes WMD was established in 1958 to manage lands purchased under these two authorities to protect wetland and grassland habitat that is critical to our nation's duck population. The District manages 18,782 acres of grassland and wetland habitats in WPAs distributed within Aurora, Bon Homme, Brule, Charles Mix, Clay, Davison, Douglas, Hanson, Hutchinson, Lincoln, Turner, Union and Yankton Counties in southeastern South Dakota. All of these WPAs are open to hunting, fishing, wildlife observation, trapping, and other forms of compatible wildlife-dependent recreation. Approximately 15,000 people visit the WPAs of the District each year to engage in these types of outdoor recreational opportunities. Additionally, the District protects nearly 80,000 acres of grassland and wetland habitats through easements that prevent habitat degradation or loss on private lands.

Karl E. Mundt NWR was established in 1974, under the legislative authority of the Endangered Species Act (16 U.S.C. 1534), to protect an area hugging the eastern bank of the Missouri River in Gregory County, South Dakota, and Boyd County, Nebraska, that supports nearly 300 endangered bald eagles each winter. While being the first national wildlife refuge specifically established for the conservation of bald eagles, its riparian forests, prairie, and upland habitats provide important resting, feeding, breeding, and nesting sites for a wide array of neotropical migratory birds, indigenous turkey, and white-tailed deer. Haying, grazing, prescribed burning, invasive plant control, and prairie restoration are used to maintain riparian and upland habitats. Cottonwoods and other native tree species have been planted in the past to anchor riverine banks in attempts to safeguard important bald eagle roosting sites. In order to reduce disturbance to bald eagles, this refuge is currently closed to public use, with the sole exception of occasional guided tours.

Background

The CCP Process

The National Wildlife Refuge System Administration Act of 1966 (16 U.S.C. 668dd-668ee) (Refuge Administration Act), as amended by the National Wildlife Refuge System Improvement Act of 1997, requires us to develop a CCP for each unit of the National Wildlife Refuge System (System). The purpose for developing a CCP is to provide refuge managers with a 15-year plan for achieving the purposes for which their refuge and/or District was established and contributing toward the mission of the System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Public Outreach

We started the CCP for the Lake Andes NWR Complex in August 2006 by inviting the South Dakota Game Fish and Parks Department and six Native American tribal governments to participate in the planning process. The planning team was assembled in September, and the planning kickoff occurred in October of the same year. We developed a mailing list and sent a planning update to all the individuals and groups in that list. The planning update included basic information on the Complex, the planning process, how the public could provide comments and become involved in the planning process, and the dates, times, and places of the three public meetings we held throughout the Complex in November 2006. At that time and throughout the process, we requested public comments and considered and incorporated them in numerous ways. Comments we received cover topics such as invasive plant control on Complex lands, increased hunting and fishing opportunities, improvement of the water quality and fisheries in Lake Andes, public access to Karl E. Mundt NWR, and Complex habitats' management tools (e.g., grazing, prescribed fire, tree plantings and/or removal, etc.). We have considered and evaluated all of these comments, with many incorporated into the various alternatives addressed in the draft CCP and the EA.

CCP Alternatives We Are Considering

During the public scoping process with which we started work on this draft CCP, we, State of South Dakota wildlife officials, a representative of the Yankton Sioux Tribe, and the public raised several issues. Our draft CCP addresses them. A full description of each alternative is in the EA. To address these issues, we developed and evaluated the following alternatives, summarized below.

| Alternative A: Current management (no action) | Alternative B: Modified management (proposed action) | Alternative C: Intensive management
Lake Andes' Water and Fishery Quality | Continued Complex staff participation with and support of the efforts of the Charles Mix County Lake Andes Restoration Organization, such as sediment removal, soil conservation practices, and control of rough fish population. | Same as Alternative A. Additionally, the Complex's staff would investigate the possibility of installing additional fish screens on all tributaries to the lake and under both dikes, and a water delivery system to pump more water onto the lake's South Unit to improve sport fisheries. | Same as Alternative B. Additionally, the Complex's staff would seek new partnerships with landowners within the lake's watershed to help improve the lake's water and fisheries quality.
Invasive Plants Control | Continue control of invasive plants on infested wetlands, uplands, and riparian lands, using chemical, mechanical, and biological control methods once every 3 years on average. | Invasive plant infestations on Lake Andes NWR, Karl E. Mundt NWR, and high-priority WPAs would be treated yearly; all other infestations will be treated every 3 years on average. | The Complex's staff would pursue the formation of an invasive plant species “strike team” to more effectively control invasive plants. Prescribed fire would be used in a manner to help decrease cool-season grasses in favor of warm-season native grasses.
Monitoring and Research | Continue limited monitoring of habitat conditions and wildlife populations in wetlands, uplands, and riparian areas. Continue permitting research activities when deemed compatible with the purposes of the units of the Complex. | Similar to, but more proactive than, Alternative A. Additionally, monitoring studies and surveys will be expanded, and habitat restoration research led by universities would be actively encouraged and pursued. | Similar to, but even more proactive than, Alternative B. Complex staff would pursue funding and research opportunities with universities on habitat management and more effective surveying methodologies.
Prairie Restoration | Continued restoration and enhancement of tall and mixed-grass plant communities to create a mosaic of the required elements for waterfowl and other grass-nesting birds. Previously farmed lands would be restored to native prairie. | Similar to Alternative A, but the main focus would be the restoration of a high diversity of native grasses and forbs, along with the pursuance of the purchase of equipment for the collection of desirable plant seeds and construction of necessary infrastructure. | Same as Alternative B. However, with increased funding and staffing, the Complex staff would be able to treat and restore many more acres of land than in Alternative B.
Public Access to Wildlife-Dependent Recreation | Karl E. Mundt NWR to remain closed to most activities, with the exception of limited staff-guided tours. All “Big 6” wildlife-dependent recreational opportunities to continue on all waterfowl production areas in the Complex, as well as in the Lake Andes' Owens Bay and Center Units. | Similar to Alternative A, except that the staff would study and open areas currently closed to hunting, as well as provide special hunts, if it is deemed compatible and suitable. Boat launching ramps for the lake's Center and South Units would be improved. The addition of an outdoor recreation planner and the remodeling of the headquarters building to include a visitor center and environmental education classroom would allow the expansion of environmental education and interpretation opportunities. Currently closed portions of Lake Andes and Karl E. Mundt NWRs would be opened to wildlife observation and photography, and observation and photography blinds would be provided for the public at appropriate locations on the Complex. | Same as Alternative B. Additionally, the staff would develop and execute an outreach plan to expand environmental education and interpretation opportunities throughout the Complex. Also, we would build an observation tower and develop a self-guiding auto tour route on Lake Andes NWR to provide more opportunities for wildlife observation and photography.
Funding, Infrastructure, and Partnerships | No new or added infrastructure or equipment or vehicles, which would be replaced only as needed. Current staffing and funding would preclude pursuance of new partnerships. | Staffing and funding would need to be expanded to carry out this plan. The existing headquarters building would need to be remodeled to provide a visitor center and educational facilities, and to accommodate new employees. The maintenance shop and storage buildings would need to be remodeled to correct deficiencies and accommodate expanded staffing and equipment. | Staffing and funding would be expanded beyond Alternatives A and B to accomplish this alternative. Instead of remodeling the headquarters building, we would have to build a new visitor center, as well as seed drying and storage facilities.

Public Meeting

Opportunity for public input will be provided at the following open house public meeting.

Date | Time | Location
October 30, 2012 | 7-9 p.m | Lake Andes Community Center, 207 West Main Street, Lake Andes, SD 57356.

Next Steps

After the public reviews and provides comments on the draft CCP and EA, the planning team will present this document, along with a summary of all substantive public comments, to the Regional Director. The Regional Director will consider the environmental effects of each alternative, including information gathered during public review, and will select a preferred alternative for the draft CCP and EA. If the Regional Director finds that no significant impacts would occur, the Regional Director's decision will be disclosed in a finding of no significant impact included in the final CCP. If the Regional Director finds a significant impact would occur, an environmental impact statement will be prepared. If approved, the action in the preferred alternative will compose the final CCP.

Public Availability of Comments

All public comment information provided voluntarily by mail, by phone, or at meetings (e.g., names, addresses, letters of comment, input recorded during meetings) becomes part of the official public record. If requested under the Freedom of Information Act by a private citizen or organization, the Service may provide copies of such information.

Authority

The environmental review of this project will be conducted in accordance with the requirements of the National Environmental Policy Act (NEPA) of 1969, as amended (42 U.S.C. 4321 et seq.); NEPA Regulations (40 CFR parts 1500-1508, 43 CFR part 46); other appropriate Federal laws and regulations; Executive Order 12996; the National Wildlife Refuge System Improvement Act of 1997; and Service policies and procedures for compliance with those laws and regulations.

Dated: October 11, 2012.
Noreen E. Walsh,
Deputy Regional Director, Mountain-Prairie Region, U.S. Fish and Wildlife Service.

[FR Doc. 2012-26482 Filed 10-26-12; 8:45 am]

BILLING CODE 4310-55-P